DEPARTMENT OF TRANSPORTATION

Federal Highway Administration

Environmental Impact Statement; Smith County, TX

AGENCY: Federal Highway Administration (FHWA), DOT.

ACTION: Notice of intent.

SUMMARY: The FHWA is issuing this notice to advise the public that an environmental impact statement (EIS) will be prepared for the proposed U.S. Highway (U.S.) 69/Loop 49 North Lindale Reliever Route (LRR) project in Smith County, Texas.

FOR FURTHER INFORMATION CONTACT: Donald E. Davis, District Engineer, Federal Highway Administration—Texas Division, 300 E. 8th Street, Austin, Texas 78701, Telephone: 512-536-5960.

SUPPLEMENTARY INFORMATION: The FHWA, in cooperation with the Texas Department of Transportation (TxDOT), will prepare an environmental impact statement (EIS) for a proposal to construct a Lindale Reliever Route in Smith County, Texas. The proposed improvement would involve construction of a new location roadway from the planned Loop 49 West/IH 20 interchange to connect with the existing U.S. 69 north of the City of Lindale, a roadway distance of approximately 5-6 miles.

The proposed Lindale Reliever Route would serve as a connector between Loop 49 and U.S. 69 and address safety, mobility, connectivity and capacity needs.

Alternatives under consideration include (1) taking no action (the no-build alternative), (2) constructing a proposed Lindale Reliever Route facility built to current highway standards, and (3) improvements to existing highways. The proposed facility will be evaluated as a toll road project. A Feasibility Study prepared in 2001 evaluated four corridor alternatives along new location right-of-way and a No-Build alternative, resulting in the identification of a recommended study corridor. Subsequent public involvement opportunities have identified additional study corridors. Evaluation of a reasonable number of alignment alternatives will be documented in the EIS, as well as the no-build and existing highway improvement alternatives, based on input from federal, state, and local agencies, as well as private organizations and concerned citizens.

The EIS will evaluate potential impacts from construction and operation of the proposed roadway including, but not limited to, the following: Impacts to residences and businesses, including potential relocations and displacements; transportation impacts (construction detours, construction traffic, and mobility improvement); air and noise impacts from construction equipment and operation of the roadway; social and economic impacts; impacts to cultural resources; water quality impacts from construction and roadway runoff; impacts related to tolling; and impacts to waters of the U.S. including wetlands from right-of-way encroachment.

Correspondence describing the proposed project and soliciting comments will be sent to appropriate federal, state, and local agencies, and to private organizations and citizens who have previously expressed interest in the proposal. TxDOT completed a Feasibility Study for the project in May 2001. In conjunction with the Feasibility Study, TxDOT developed a steering committee, provided project information at two public meetings, and met with interested stakeholders. An agency scoping meeting is anticipated to be held by TxDOT in September 2006 to coordinate and solicit agency representatives' input on project plans including the purpose and need and the range of alternatives, introduce project team members, obtain comments pertaining to the scope of the EIS, identify important issues, set goals, develop project schedule, and respond to questions. A continuing public involvement program will include a project mailing list, project newsletters, a public scoping meeting (public notice will be given of the time and place), and numerous informal meetings with interested citizens and stakeholders. In addition, a public hearing will be held after the publication of the Draft EIS. Public notice will be given of the time and place of the hearing. The Draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Research Planning and Construction. The regulations implementing Executive Order 12373 regarding intergovernmental consultation on Federal programs and activities apply to this program.)

Donald E. Davis,
District Engineer.

[FR Doc. 06-7012 Filed 8-17-06; 8:45 am]

BILLING CODE 4910-22-M